DEPARTMENT OF ENERGY

Federal Energy Regulatory Commission

[Docket No. GT02-7-000]

Trunkline Gas Company and CMS Trunkline Gas Company, LLC; Notice of Proposed Changes in FERC Gas Tariff

November 27, 2001.

Take notice that on November 19, 2001, Trunkline Gas Company (Trunkline) and CMS Trunkline Gas Company, LLC tendered for filing as part of its FERC Gas Tariff, Second Revised Volume No. 1, the tariff sheets listed on Appendix A to the filing, to reflect a corporate name change to become effective December 1, 2001.

Trunkline states that the revised tariff sheets reflect a corporate name change that will occur on December 1, 2001. On that date, Trunkline will convert from a Corporation to a limited liability company and will change its corporate name to CMS Trunkline Gas Company, LLC.

Trunkline states that copies of its transmittal letter and appendices have been mailed to all affected customers and interested state commissions. Trunkline states that copies of the tariff sheets will be provided, via overnight mail, upon request.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29856 Filed 11-30-01; 8:45 am]

BILLING CODE 6717-01-P